DEPARTMENT OF COMMERCE

National Oceanic and Atmospheric Administration

RIN 0648-XF705

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Committees.

DATES: The meetings will be held Tuesday, October 10, 2017 through Thursday, October 12, 2017. For agenda details, see SUPPLEMENTARY INFORMATION.

ADDRESSES: The meeting will be held at: Hyatt Long Island East End, 451 East Main St., Riverhead, NY 11901, telephone: (631) 208-0002.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's Web site, www.mafmc.org also has details on the meeting location, proposed agenda, webinar listen-in access, and briefing materials.

SUPPLEMENTARY INFORMATION: The following items are on the agenda, though agenda items may be addressed out of order (changes will be noted on the Council's Web site when possible.)

Tuesday, October 10, 2017

Executive Committee

Review 2017 and Proposed 2018 Implementation Plan; discuss recommendations on 2018 priorities.

Swearing In of New and Reappointed Council Members

Election of Officers

Surfclam and Ocean Quahog Goals and Objectives Workshop

Review results from Fisheries Forum project; review Fishery Management Action Team recommendations; identify and approve revised goals and objectives for public hearing document.

Golden Tilefish Individual Transferable Quota Program Review

Review and approve final report.

Regional Planning Body Ecologically Rich Areas Presentation

Wednesday, October 11, 2017

Lobster Standardized Bycatch Reporting Methodology Framework—Meeting 2

Final action on preferred alternatives

Spiny Dogfish Specifications

Review previously set specifications for 2018 and consider any modifications

Ecosystem Approach to Fisheries Management Risk Assessment

Finalize and adopt EAFM Based Risk Assessment.

Summer Flounder, Scup, and Black Sea Bass Commercial Accountability Measure Framework—Meeting 1

Review background, issues, and draft alternatives.

2018 Recreational Black Sea Bass Wave 1 Fishery

Consider a potential February 2018 opening of the recreational Wave 1 fishery.

Law Enforcement Reports

Reports will be received from the NOAA Office of Law Enforcement and the U.S. Coast Guard.

2019-23 Strategic Plan

Review plan for the development of the Strategic Plan.

Thursday, October 12, 2017

• Business Session Committee Reports; Executive Director's Report; Science Report; Organization Reports; and Liaison Reports.

• Continuing and New Business.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: September 19, 2017.
Tracey L. Thompson,
Acting Deputy Director, Office of Sustainable Fisheries, National Marine Fisheries Service.

[FR Doc. 2017-20238 Filed 9-21-17; 8:45 am]

BILLING CODE 3510-22-P